DEPARTMENT OF TRANSPORTATION

National Highway Traffic Safety Administration

[Docket No. NHTSA-2004-18848]

Electronic Submission of Conformity Information Regarding Certain Imported Nonconforming Motor Vehicles

AGENCY: National Highway Traffic Safety Administration (NHTSA), DOT.

ACTION: Notice of proposed action.

SUMMARY: This document announces that NHTSA is considering a proposal to permit registered importers (RIs) to submit to the agency, in an electronic format, certain information regarding imported vehicles that are certified by their manufacturer as complying with Canadian motor vehicle safety standards (CMVSS), but not with all applicable Federal motor vehicle safety standards (FMVSS). Currently, RIs submit this information to the agency in a hard copy format. The proposal should result in a savings, for both the agency and the RI community, of the costs that are currently associated with the assemblage, mailing, and storage of these records in hard copy form.

DATES: The closing date for comments on the petition is September 10, 2004.

ADDRESSES: Comments should refer to the docket number and notice number, and be submitted to: Docket Management, Room PL-401, 400 Seventh St., SW., Washington, DC 20590. (Docket hours are from 9 a.m. to 5 p.m.) Anyone is able to search the electronic form of all comments received into any of our dockets by the name of the individual submitting the comment (or signing the comment, if submitted on behalf of an association, business, labor union, etc.). You may review DOT's complete Privacy Act Statement in the Federal Register published on April 11, 2000 (volume 65, number 70; pages 19477-78), or you may visit http://dms.dot.gov.

FOR FURTHER INFORMATION CONTACT: Coleman Sachs, Office of Vehicle Safety Compliance, NHTSA (202-366-3151).

SUPPLEMENTARY INFORMATION: One of NHTSA's responsibilities is to monitor the importation into the United States of motor vehicles that were not originally manufactured to comply with all applicable Federal motor vehicle safety and bumper standards. Such vehicles cannot be permanently imported into the United States unless (1) they are determined eligible for importation by NHTSA, based on their capability of being modified to conform to all applicable FMVSS and bumper standards and (2) they are imported by an importer specially registered with the agency (a “registered importer” or “RI”), or by a person who has a contract with an RI to bring the vehicle into compliance with all applicable FMVSS and bumper standards. See 49 U.S.C. §§ 30112(a) and 30141. At the time that a nonconforming vehicle is imported, the importer furnishes to Customs a bond, in an amount equivalent to 150 percent of the dutiable value of the vehicle, to ensure that the vehicle is brought into compliance with all applicable FMVSS and bumper standards within 120 days of entry, or is exported from, or abandoned to, the United States. To obtain release of the bond, the importer must submit to NHTSA a statement certifying that the vehicle has been brought into conformity with all applicable standards, supported by documentary and photographic evidence of the vehicle's conformity, and evidence that there are no unremedied safety-related defects or noncompliances with FMVSS. We refer to this statement and its supporting material as a “conformity package.” We currently require these conformity packages to be submitted to us in hard copy format. A separate conformity package is submitted to the agency for each nonconforming vehicle imported under the RI program. If the conformity package is adequate, NHTSA notifies the RI that the DOT Conformance bond is released, which authorizes the RI to release the vehicle so that it can be licensed or registered for use on public roads.

In calendar years 2002 and 2003, more than 309,000 vehicles were imported under this program, 307,000 (over 99%) of which were imported from Canada and were originally certified as complying with the CMVSS. The remaining non-conforming vehicles, commonly referred to as gray-market vehicles, were imported from countries other than Canada. Because the CMVSS, with limited exceptions, are substantially identical to the FMVSS, few modifications ordinarily need to be performed to conform a Canadian-certified motor vehicle to U.S. standards. As a consequence, the conformity packages that are submitted to NHTSA for Canadian-certified vehicles contain relatively little information. That is not the case for vehicles that were originally manufactured for sale in Europe and other foreign markets, which generally have standards that differ significantly from the FMVSS. Owing to those differences, the conformity packages for those vehicles ordinarily contain considerably more documentary and photographic evidence on the modifications that were necessary to conform the vehicles to U.S. standards than is the case for Canadian-certified motor vehicles. Consequently, we are not proposing to allow conformity packages for non-Canadian vehicles to be submitted electronically at this time.

Conformity packages are normally sent to the agency by parcel delivery service, such as Federal Express, United Parcel Service, or DHL. Following review of the packages by NHTSA, they are warehoused for a period of two years, at considerable expense to the agency. To relieve the paperwork burdens and costs the current procedures have imposed on both the affected RI community and the agency, we are considering permitting RIs to submit conformity packages to us electronically for Canadian-certified motor vehicles.

We are considering the establishment of a secure, web-based interface through which RIs could transmit electronically to NHTSA documentary and photographic evidence that the vehicle had been brought into conformity with the FMVSS, as well as evidence that remedies for all safety-related defects and noncompliances with safety standards that are the subject of outstanding safety recall campaigns have been performed on the vehicles.

By using a web-based interface, the time and effort needed to prepare, send, process, and store conformity packages should be significantly reduced. We also anticipate that NHTSA will be able to issue an electronic bond release letter promptly following the successful submission of the electronic conformity package. This should benefit RIs and their customers by permitting imported Canadian-certified vehicles to be released for registration and licensing for use on U.S. roads more quickly after their importation. However, those RIs that wish to continue to submit hard copy conformity packages could continue to do so.

Pursuant to 49 CFR 592.6(f), RIs must submit “ * * * photographic and documentary evidence of conformance with each applicable Federal motor vehicle safety and bumper standard and * * * such information, if any, as the Administrator may request.” Over the years, the agency has advised RIs of the information that is required. For an electronically submitted conformity package, we would accept documents created in an electronic format, digital photographs (images) from a digital camera, and documents converted to electronic format by a scanner. The following items, at a minimum, must be included in each conformity package transmitted to the agency for a Canadian vehicle:

(1) A statement from the RI certifying that the vehicle complies with all applicable Federal motor vehicle safety and bumper standards, and specifying whether the vehicle was originally manufactured to conform, or was modified to conform, to each applicable standard.

(2) A statement describing the specific conformance modifications made.

(3) Photographs of the original manufacturer's certification label; the RI certification label affixed to vehicle; the instrument cluster showing the speedometer scale graduated in miles per hour (MPH); the steering wheel hub and dashboard facing the outboard front passenger seat on vehicles equipped with an air bags; the automatic seat belts on vehicles that are so equipped; and a ¾ front overall photo showing the vehicle's exterior.

(4) The DOT conformance bond number, the amount, and the name of the surety.

(5) The name of the company issuing the mandatory service insurance policy covering recall work that may have to be performed on the vehicle and the effective date of the policy.

(6) Evidence that all safety-related defects and noncompliances with safety standards that have been determined to exist in the vehicle have been remedied.

Although this policy would not amend any NHTSA regulation, we are interested in the public's views on the issues addressed in this notice. If you are an RI or are affiliated with such an entity and elect to respond to this notice, your response should describe:

(1) The extent to which your company believes it could easily transition to a web-based approach for submitting conformity packages electronically to NHTSA, and if it does not believe that this could be easily achieved, the factors that may complicate your company's transition.

(2) Whether your company currently uses electronic equipment of the type that would be needed for a web-based submission, including personal computers, scanners, and digital cameras.

(3) Whether your company currently uses the Internet, including e-mail, and whether it has high-speed or dial-up Internet access.

(4) Whether your company is currently transmitting vehicle importation information in electronic format (e.g., to a Customs broker). If so, state whether your company is using “off the shelf” software or software specifically designed for this purpose.

(5) The extent to which you believe the electronic submission of conformity packages would be beneficial or detrimental to your company (e.g., increases or decreases in errors and anticipated costs).

Interested persons are invited to submit comments on this proposal. Comments should refer to the docket number and be submitted to: Docket Management, Room PL-401, 400 Seventh St., SW., Washington, DC 20590. (Docket hours are from 9 a.m. to 5 p.m.) It is requested but not required that 10 copies be submitted.

All comments received before the close of business on the closing date indicated above will be considered, and will be available for examination in the docket at the above address both before and after that date. To the extent possible, comments filed after the closing date will also be considered.

Authority: 49 U.S.C. 30141(d)(1)(A) and 30146(a)(1), (c), and (e); 49 CFR 591.8(d)(2), (d)(3), and (d)(5); delegations of authority at 49 CFR 1.50 and 501.8.

Claude H. Harris,
Director, Office of Vehicle Safety Compliance.

[FR Doc. 04-18355 Filed 8-10-04; 8:45 am]

BILLING CODE 4910-59-P